ENVIRONMENTAL PROTECTION AGENCY

40 CFR Part 52

[EPA-R03-OAR-2017-0437; FRL-9971-98-Region 3]

Approval and Promulgation of Air Quality Implementation Plans; Pennsylvania; Adoption of Control Techniques Guidelines for Control of Volatile Organic Compound Emissions From Miscellaneous Metal Parts Surface Coating, Miscellaneous Plastic Parts Surface Coating, and Pleasure Craft Surface Coatings; Withdrawal of Direct Final Rule

AGENCY: Environmental Protection Agency (EPA).

ACTION: Withdrawal of direct final rule.

SUMMARY: Due to receipt of an adverse comment, the Environmental Protection Agency (EPA) is withdrawing the October 16, 2017 direct final rule (DFR) that approved a revision to the Commonwealth of Pennsylvania's state implementation plan (SIP). The revision included amendments to the Pennsylvania Department of Environmental Protection's (PADEP) regulations and addressed the requirement to adopt reasonably available control technology (RACT) for sources covered by EPA's control techniques guidelines (CTG) standards for the following categories: Miscellaneous metal parts surface coating, miscellaneous plastic parts surface coating, and pleasure craft surface coatings, as well as related cleaning activities. The SIP revision also amended regulations for graphic arts systems and mobile equipment repair and refinishing as well as made general administrative changes. EPA stated in the direct final rule that if EPA received adverse comments by November 15, 2017, the rule would be withdrawn and not take effect. EPA subsequently received adverse comments. EPA will address the comments received in a subsequent final action based upon the proposed action also published on October 16, 2017. EPA will not institute a second comment period on this action.

DATES: The direct final rule published at 82 FR 47988 on October 16, 2017 is withdrawn as of December 13, 2017.

FOR FURTHER INFORMATION CONTACT: Gregory A. Becoat, (215) 814-2036, or by email at becoat.gregory@epa.gov.

SUPPLEMENTARY INFORMATION: On November 18, 2016, PADEP submitted a revision to the Pennsylvania SIP concerning the adoption of EPA's CTG for miscellaneous metal parts surface coating processes, miscellaneous plastic parts surface coating processes, and pleasure craft surface coatings. Specifically, PADEP amended 25 Pennsylvania Code (Pa. Code) Chapter 129 (relating to standards for sources) to address RACT and further reduce volatile organic compounds (VOC) emissions in Pennsylvania. In accordance with sections 172(c)(1), 182(b)(2)(A) and 184(b)(1)(B) of the CAA, Pennsylvania's SIP revision submittal established VOC emission limitations and other requirements consistent with the recommendations of EPA's 2008 Control Techniques Guidelines for Miscellaneous Metal and Plastic Parts Coatings (MMPP) (Publication No. EPA 453/R-08-003; September 2008) and Control Techniques Guidelines for Automobile and Light-Duty Truck Assembly Coatings for these sources in the Commonwealth of Pennsylvania (Publication No. EPA 453/R-08-006). In the direct final rule published on October 16, 2017 (82 FR 47988), EPA stated that if EPA received adverse comments by November 15, 2017, the rule would be withdrawn and not take effect. EPA subsequently received adverse comments. EPA will address the comments received in a subsequent final action based upon this proposed action and will not institute a second comment period on this action.

As a result of the comments received, EPA is withdrawing the DFR approving the Commonwealth of Pennsylvania's SIP revision adopting CTGs for miscellaneous metal parts surface coating, miscellaneous plastic parts surface coating, and pleasure craft surface coatings, as well as general administrative changes related to cleaning activities in the Pennsylvania SIP.

List of Subjects in 40 CFR Part 52

Environmental protection, Air pollution control, Incorporation by reference, Ozone, Reporting and recordkeeping requirements, Volatile organic compounds.

Dated: December 1, 2017.
Cosmo Servidio,
Regional Administrator, Region III.

Accordingly, the amendments to § 52.2020(c) published on October 16, 2017 (82 FR 47988), which were to become effective December 15, 2017, are withdrawn as of December 13, 2017.

[FR Doc. 2017-26764 Filed 12-12-17; 8:45 am]

BILLING CODE 6560-50-P